DEPARTMENT OF TRANSPORTATION

Federal Highway Administration

Notice of Final Federal Agency Actions on Proposed Gravina Access Project in Alaska

AGENCY: Federal Highway Administration (FHWA), Department of Transportation (DOT).

ACTION: Notice of limitation of claims for judicial review of actions by FHWA and other Federal agencies.

SUMMARY: This notice announces final actions taken by FWHA. The actions relate to the proposed Gravina Access Project in the Ketchikan Gateway Borough in the State of Alaska. Those actions grant approvals for the project.

DATES: By this notice, FHWA is advising the public of final agency actions subject to 23 U.S.C. 139(l)(1). A claim seeking judicial review of FHWA actions on the Gravina Access Project will be barred unless the claim is filed on or before December 4, 2017. If the Federal law that authorizes judicial review of a claim provides a time period of less than 150 days for filing such claim, then that shorter time period still applies.

FOR FURTHER INFORMATION CONTACT: Karen Pinell, Assistant Division Administrator, Alaska Division Office, FHWA, P.O. Box 21648, Juneau, Alaska 99802, Telephone (907) 586-7158. The FHWA Alaska Division Office's normal business hours are 8:00 a.m. to 5:00 p.m. (Alaska Standard Time), Monday through Friday, except Federal holidays. You may also contact Kirk Miller, P.E., Project Manager, DOT&PF Southcoast Region, 6860 Glacier Highway, Juneau, Alaska 99801-7999, Telephone (907) 465-1215. The DOT&PF Southcoast Region's normal business hours are 8:00 a.m. to 4:30 p.m. (Alaska Standard Time), Monday through Friday, except State and Federal holidays.

SUPPLEMENTARY INFORMATION: Notice is hereby given that FHWA has taken final agency action subject to 23 U.S.C. 139(l)(1) by issuing licenses, permits, and approvals for the Gravina Access Project in the State of Alaska. The Gravina Access Project proposes to improve access between Revillagigedo Island and Gravina Island in the Ketchikan Gateway Borough, Alaska.

The project includes the following components:

1. Reconstruction of existing airport ferry berths to meet current design standards;

2. Upgrades and improvements to pedestrian facilities at the airport ferry terminals;

3. A new heavy freight mooring facility and new ferry layup dock on Gravina Island;

4. Shuttle vans to carry pedestrians and their luggage to/from the airport;

5. New toll facilities;

6. Replacement of the bridge over Airport Creek; and

7. Reconstruction of Seley Road from Lewis Reef Road to approximately the end of the Airport Reserve.

The actions by FHWA and the laws under which such actions were taken are described in the Gravina Access Project Final Environmental Impact Statement (SEIS) and Record of Decision (ROD) issued on July 7, 2017, and in other documents in the project records. The Final SEIS, ROD, and other project records are available by contacting FHWA at the address provided above. The Final SEIS and ROD can be viewed and downloaded from the project Web site at: at: http://dot.alaska.gov/sereg/projects/gravina_access/ or by contacting FHWA at the address provided above.

This notice applies to all FHWA decisions as of the issuance date of this notice and all laws under which such actions were taken. Laws generally applicable to such actions include but are not limited to:

1. General: National Environmental Policy Act (NEPA) [42 U.S.C. 4321-4351; Federal-Aid Highway Act [23 U.S.C. 109].

2. Wildlife: Fish and Wildlife Coordination Act [16 U.S.C. 661-667d; Migratory Bird Treaty Act [16 U.S.C. 703-712], Magnuson-Stevens Fisheries Conservation and Management Act of 1976, as amended [16 U.S.C. 1801-1891d, Bald and Golden Eagle Protection Act [16 U.S.C. 668-668d), Endangered Species Act (16 U.S.C 1536).

3. Waters of the U.S.: Section 404 of the Clean Water Act [33 U.S.C. 1344].

4. Cultural Resources: Section 106 of the National Historic Preservation Act of 1966, as amended [54 U.S.C. 306108]; Archaeological and Historic Preservation Act [54 U.S.C. 312501-312508]; Archaeological Resources Protection Act of 1977 [16 U.S.C. 470(aa)-470mm].

5. Executive Orders: Executive Order 12898, Environmental Justice; Executive Order 11988, Floodplain Management; Executive Order 11990, Protection of Wetlands; Executive Order 13112, Invasive Species; Executive Order 13166 Improving Access to Services for Persons with Limited English Proficiency; Executive Order 13186 Migratory Birds; Executive Order 11593, Protection and Enhancement of the Cultural Environment; and Executive Order 13175, Consultation and Coordination with Indian Tribal Governments.

Authority: 23 U.S.C. 139(l)(1).

Issued On: June 27, 2017.
Sandra A. Garcia-Aline,
Alaska Division Administrator, Juneau, Alaska.

[FR Doc. 2017-14234 Filed 7-6-17; 8:45 am]

BILLING CODE 4910-22-P